DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before January 6, 2010.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for modification of special permit is published in accordance with Part 107 of the Federal hazardous materials transportation law (49 U.S.C. 5117(b); 49 CFR 1.53(b)).

Issued in Washington, DC on December 15, 2009.
Delmer F. Billings,
Director, Office of Hazardous Materials, Special Permits and Approvals.

Application No. | Docket No. | Applicant | Regulation(s) affected | Nature of special permit thereof
Modification Special Permits
6293-M |  | ATK Space Systems, Inc. (Former Grantee: ATK Thiokol, Inc.) Corine, UT | 49 CFR 173.248; 173.51(f) | To modify the special permit to authorize an additional Class 8 hazardous material and authorize a new mixed spent acid.
7951-M |  | ConAgra Foods, Omaha, NE | 49 CFR 173.306(b)(1); 178.33; 175.3 | To modify the special permit for clarification and to add Consumer Commodity and ORM-D to paragraph 6.
11761-M |  | Chemtrade Logistics, Inc., North York | 49 CFR 173.31(d)(1)(vi); 172.302(c) | To modify the special permit to add an additional Class 8 hazardous material.
11827-M |  | Kanto Corporation, Portland, OR | 49 CFR 180.605(c)(1); 180.352(b)(3) | To modify the special permit by making miscellaneous edits for clarification purposes.
12599-M |  | Air Liquide, America Specialty Gases, Inc., Plumsteadville, PA | 49 CFR 173.301(d)(2); 173.302 | To modify the special permit to authorize DOT 3AA cylinders with a lower service pressure of 2,000 psig, change regulatory site for the liquefied compressed gases in cylinders applicable to silicon tetrafluoride to § 173.304a(a)(1) to provide relief from § 173.40(e) and to delete § 173.301a(a)(4) from paragraph 4.
14283-M |  | U.S. Department of Energy (DOE), Washington, DC | 49 CFR Part 172, Subparts E, F; 171.15; 171.16; 172.202; 172.203(c)(1)(i); 172.203(d)(1); 172.310; 172.316(a)(7); 172.331(b)(2); 172.332; 173.403(c); 173.425(c)(1)(iii); 173.425(c)(5); 173.443(a); 174.24; 174.25; 174.45; 174.59; 174.700; 174.715; 177.807; 177.843(a) | To modify the special permit to provide an exception to 49 CFR 172.203(g).
14574-M |  | KMG Electronic Chemicals, Houston, TX | 49 CFR 180.407(c), (e) and (f) | To modify the special permit to authorize the addition of a 49% hydrofluoric acid tank wagon to the special permit.
14796-M |  | Chammas Cutters Inc., Houston, TX | 49 CFR 173.228 | To modify the special permit to authorize the addition of a larger cylinder and a volume up to 1940 cc.

[FR Doc. E9-30304 Filed 12-21-09; 8:45 am]

BILLING CODE 4909-60-M